NATIONAL SCIENCE FOUNDATION

Notice of Permit Applications Received Under the Antarctic Conservation Act of 1978 (P.L. 95-541)

AGENCY: National Science Foundation.

ACTION: Notice of Permit Modification Received under the Antarctic Conservation Act of 1978, P.L. 95-541.

SUMMARY: The National Science foundation (NSF) is required to publish a notice of requests to modify permits issued to conduct activities regulated under the Antarctic Conservation Act of 1978. NSF has published regulations under the Antarctic Conservation Act at Title 45 Part 670 of the Code of Federal Regulations. This is the required notice of a requested permit modification.

DATES: Interested parties are invited to submit written data, comments, or views with respect to this permit application on or before November 2, 200. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Public Law 95-541), has developed regulations that implement the “Agreed Measures for the Conservation of Antarctic Fauna and Flora” for all United States citizens. The Agreed Measures, developed by the Antarctic Treaty Consultative Parties, recommended establishment of a permit system for various activities in Antarctica and designation of certain animals and certain geographic areas a requiring special protection. The regulations establish such a permit system to designate Specially Protected Areas and Sites of Special Scientific Interest.

DESCRIPTION OF PERMIT MODIFICATION REQUESTED: The Foundation issued a permit (2000-004) to Dr. Paul J. Ponganis on September 21, 1999. The issued permit allows the applicant to capture up to 60 Emperor adults and 55 Emperor chicks for collection of samples and application of various depth recorders, physiological recorders or video cameras to study the thermoregulation and underwater behavior of Emporer penguins.

The applicant proposes to access the Cape Crozier Antarctic Specially Protected Area #124 to census Emperor penguin chicks.

LOCATION: ASPA 124—Cape Crozier, Ross Island.

Dates: November 15, 2000 to February 28, 2002.
Nadene G. Kennedy,
Permit Officer, Office of Polar Programs.

[FR Doc. 00-25380 Filed 10-2-00; 8:45 am]

BILLING CODE 7555-01-P